DEPARTMENT OF HEALTH AND HUMAN SERVICES

National Institutes of Health

Submission for OMB Review; Comment Request; Special Volunteer and Guest Researcher Assignment

SUMMARY: Under the provisions of section 3507(a)(1)(D) of the Paperwork Reduction Act of 1995, the Office of the Director, the National Institutes of Health (NIH) has submitted to the Office of Management and Budget (OMB) a request to review and approve the information collection listed below. This proposed information collection was previously published in the Federal Register on January 31, 2002, (Volume 67, Number 21) and allowed 60 days for public comment. No public comments were received. The purpose of this notice is to allow an additional 30 days for public comment. The National Institutes of Health may not conduct or sponsor, and the respondent is not required to respond to an information collection that has been extended, revised, or implemented on or after October 1, 1995, unless it displays a currently valid OMB control number.

Proposed Collection

Title: Special Volunteer and Guest Researcher Assignment.

Type of Information Collection Request: Extension of OMB No. 0925-0177; 07/31/02.

Need and Use of Information Collection: Form NIH-590 records, names, address, employer, education, and other information on prospective Special volunteers and Guest Researchers, and is used by the responsible NIH approving official to determine the individual's qualifications and eligibility for such assignments. The form is the only official record of approved assignments.

Frequency of Response: On occasion.

Affected Public: Individuals or households.

Type of Respondents: Guest Researcher and Special Volunteer candidates.

Estimated Number of Respondents: 1,630.

Estimated Number of Responses Per Respondent: 1.

Average Burden Hours Per Response: .1.

Estimated Total Annual Burden Hours Requested: 163. There are no Capitol Costs, Operating Costs, and/or Maintenance Costs to report.

Type of respondents | Estimated number of respondents | Estimated number of responses per respondent | Average burden hours per response | Estimated total annual burden hours requested
Guest Researcher | 400 | 1 | .1 | 40
Special Volunteer | 1230 | 1 | .1 | 123
TOTAL | 1630 | 1 | .1 | 163

Requests for Comments

Written comments and/or suggestions from the public and affected agencies are invited on one or more of the following points: (1) Whether the proposed collection of information is necessary for the proper performance of the agency, including whether the information will have practical utility; (2) The accuracy of the agency's estimate of the proposed collection of information, including the validity of the methodology and assumptions used; (3) Ways to enhance the quality, utility, and the clarity of information to be collected; and (4) Ways to minimize the burden of the collection of information on those who are to respond, including the use of appropriate automated, electronic, mechanical, or other technological collection techniques or other forms of information technology.

Direct Comments To: Written comments and/or suggestions regarding the items contained in this notice, especially regarding the estimated public burden and associated response time, should be directed to the: Office of Management and Budget, Office of Regulatory Affairs, New Executive Office Building, Room 10235, Washington, DC 20503, Attention: Desk Officer for NIH.

FOR FURTHER INFORMATION CONTACT: To request more information on the proposed project or to obtain a copy of the data collection plans and instruments, contact: Ms. Edie Bishop, HR Consultant, OD, NIH, Office of Human Resource Management, Senior and Scientific Employment Division, Building 31, Room B3C07, 31 Center Drive MSC 2203, Bethesda, MD 20892-2272.

Comments Due Date: Comments regarding this information collection are best assured of having their full effect if received within 30 days of the date of this publication.

Dated: February 27, 2002.
Stephen C. Benowitz,
Director, Office of Human Resource Management.

[FR Doc. 02-13713 Filed 5-30-02; 8:45 am]

BILLING CODE 4140-01-M